DEPARTMENT OF HOMELAND SECURITY

Federal Emergency Management Agency

44 CFR Part 67

[Docket ID FEMA-2013-0002]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
Unincorporated Areas of Craven County, North Carolina
Docket No.: FEMA-B-1212
North Carolina | Unincorporated Areas of Craven County | Mosley Creek (into Neuse River) | At the upstream side of William Pearce Road | +25
|  |  | Approximately 0.5 mile upstream of Dover Fort Barnwell Road | +46
North Carolina | Unincorporated Areas of Craven County | Mosley Creek Tributary | At the Mosley Creek (into Neuse River) confluence | +25
|  |  | Approximately 1.0 mile upstream of State Route 55 | +36
North Carolina | Unincorporated Areas of Craven County | Tracey Swamp | At the Mosley Creek (into Neuse River) confluence | +39
|  |  | Approximately 1.0 mile downstream of the Jones County boundary | +41
* National Geodetic Vertical Datum.
+ North American Vertical Datum.
# Depth in feet above ground.
ADDRESSES
Unincorporated Areas of Craven County
Maps are available for inspection at the Craven County GIS/Mapping Department, 226 Pollock Street, New Bern, NC 28560.
Unincorporated Areas of Jones County, North Carolina
Docket No.: FEMA-B-1212
North Carolina | Unincorporated Areas of Jones County | Southwest Creek Tributary | Approximately 1,750 feet downstream of British Road | +35
|  |  | Approximately 1,000 feet upstream of British Road | +41
* National Geodetic Vertical Datum.
+ North American Vertical Datum.
# Depth in feet above ground.
ADDRESSES
Unincorporated Areas of Jones County
Maps are available for inspection at the Jones County Government Office, 418 Highway 58 North, Trenton, NC 28585.
Unincorporated Areas of Vance County, North Carolina
Docket No.: FEMA-B-1110
North Carolina | Unincorporated Areas of Vance County | Buffalo Creek North | At the confluence with the Tar River | +229
|  |  | Approximately 300 feet downstream of Dick Smith Road | +229
North Carolina | Unincorporated Areas of Vance County | Tabbs Creek | At the confluence with the Tar River | +236
|  |  | Approximately 1,700 feet upstream of Egypt Mountain Road | +236
North Carolina | Unincorporated Areas of Vance County | Tar River | At the Franklin/Vance county boundary | +229
|  |  | At the confluence with Middle Creek | +241
* National Geodetic Vertical Datum.
+ North American Vertical Datum.
# Depth in feet above ground.
ADDRESSES
Unincorporated Areas of Vance County
Maps are available for inspection at the Vance County Planning and Development Office, 156 Church Street, Henderson, NC 27536.
Unincorporated Areas of Wayne County, North Carolina
Docket No.: FEMA-B-1212
North Carolina | Unincorporated Areas of Wayne County | Bear Creek | At the upstream side of Parkstown Road | +83
|  |  | Approximately 150 feet downstream of Rodell Barrow Road | +113
North Carolina | Unincorporated Areas of Wayne County | Button Branch | At the Nahunta Swamp confluence | +67
|  |  | Approximately 400 feet upstream of the Greene County boundary | +72
North Carolina | Unincorporated Areas of Wayne County | Nahunta Swamp | Approximately 1,800 feet downstream of the Greene County boundary | +65
|  |  | Approximately 0.4 mile upstream of The Slough confluence | +72
North Carolina | Unincorporated Areas of Wayne County | The Slough | At the Nahunta Swamp confluence | +71
|  |  | Approximately 1,800 feet upstream of the Nahunta Swamp confluence | +72
* National Geodetic Vertical Datum.
+ North American Vertical Datum.
# Depth in feet above ground.
ADDRESSES
Unincorporated Areas of Wayne County
Maps are available for inspection at the Wayne County Manager's Office, 224 East Walnut Street, Goldsboro, NC 27533.

Flooding source(s) | Location of referenced elevation ** | * Elevation in feet (NGVD) + Elevation in feet (NAVD) # Depth in feet above ground ‸ Elevation in meters (MSL) Modified | Communities affected
Lancaster County, Nebraska, and Incorporated Areas
Docket Nos.: FEMA-B1222
Little Salt Creek | Approximately 1,293 feet upstream of the Salt Creek confluence | +1139 | City of Lincoln, Unincorporated Areas of Lancaster County.
| Approximately 1,289 feet downstream of West Rock Creek Road | +1253
Little Salt Creek Tributary 05 | Approximately 0.5 mile downstream of Arbor Road | +1139 | City of Lincoln.
| Approximately 121 feet downstream of North 40th Street | +1165
Little Salt Creek Tributary 10 | Approximately 115 feet downstream of North 27th Street | +1143 | City of Lincoln.
| Approximately 1,601 feet downstream of Waverly Road | +1217
Little Salt Creek Tributary 110 | Approximately 1,231 feet downstream of North 40th Street | +1160 | City of Lincoln.
| Approximately 1,110 feet upstream of North 40th Street | +1181
Little Salt Creek Tributary 115 | Approximately 0.77 mile downstream of North 14th Street | +1146 | City of Lincoln.
| Approximately 1.43 miles upstream of North 14th Street | +1220
Little Salt Creek Tributary 120 | Approximately 405 feet upstream of the Little Salt Creek Tributary 20 confluence | +1152 | City of Lincoln.
| Approximately 246 feet downstream of Waverly Road | +1168
Little Salt Creek Tributary 1260 | Approximately 390 feet upstream of the Little Salt Creek Tributary 260 confluence | +1209 | City of Lincoln.
| Approximately 0.82 mile upstream of West Davey Road | +1288
Little Salt Creek Tributary 130 | Approximately 192 feet upstream of the Little Salt Creek Tributary 30 confluence | +1197 | Unincorporated Areas of Lancaster County, City of Lincoln.
| Approximately 311 feet upstream of North 1st Street | +1222
Little Salt Creek Tributary 1415 | Approximately 425 feet upstream of the Little Salt Creek Tributary 415 confluence | +1219 | City of Lincoln.
| Approximately 1,072 feet upstream of the Little Salt Creek Tributary 415 confluence | +1228
Little Salt Creek Tributary 145 | Approximately 615 feet upstream of the Little Salt Creek Tributary 45 confluence | +1170 | Unincorporated Areas of Lancaster County.
| Approximately 241 feet downstream of North 14th Street | +1214
Little Salt Creek Tributary 15 | Approximately 1,952 feet upstream of the Little Salt Creek confluence | +1145 | City of Lincoln.
| Approximately 1,976 feet downstream of Waverly Road | +1290
Little Salt Creek Tributary 150 | Approximately 241 feet upstream of the Little Salt Creek Tributary 50 confluence | +1197 | Unincorporated Areas of Lancaster County.
| Approximately 276 feet downstream of North 14th Street | +1224
Little Salt Creek Tributary 160 | Approximately 421 feet downstream of North 1st Street | +1183 | Unincorporated Areas of Lancaster County.
| Approximately 283 feet downstream of Branched Oak Road | +1224
Little Salt Creek Tributary 170 | Approximately 547 feet upstream of the Little Salt Creek Tributary 70 confluence | +1207 | Unincorporated Areas of Lancaster County.
| Approximately 160 feet downstream of West Raymond Road | +1245
Little Salt Creek Tributary 20 | Approximately 643 feet upstream of the Little Salt Creek confluence | +1152 | City of Lincoln, Unincorporated Areas of Lancaster County.
| Approximately 200 feet downstream of North 40th Street | +1256
Little Salt Creek Tributary 210 | Approximately 206 feet upstream of the Little Salt Creek Tributary 10 confluence | +1195 | City of Lincoln.
| Approximately 1,025 feet upstream of the Little Salt Creek Tributary 10 confluence | +1202
Little Salt Creek Tributary 215 | Approximately 904 feet downstream of North 14th Street | +1165 | City of Lincoln.
| Approximately 142 feet downstream of McKelvie Road | +1194
Little Salt Creek Tributary 220 | Approximately 829 feet downstream of Waverly Road | +1172 | City of Lincoln, Unincorporated Areas of Lancaster County.
| Approximately 171 feet downstream of Mill Road | +1237
Little Salt Creek Tributary 2220 | Approximately 434 feet downstream of Mill Road | +1221 | Unincorporated Areas of Lancaster County.
| Approximately 1,534 feet upstream of Mill Road | +1248
Little Salt Creek Tributary 230 | Approximately 448 feet upstream of the Little Salt Creek Tributary 30 confluence | +1217 | Unincorporated Areas of Lancaster County.
| Approximately 1,719 feet upstream of the Little Salt Creek Tributary 30 confluence | +1231
Little Salt Creek Tributary 25 | Approximately 1,365 feet upstream of the Little Salt Creek confluence | +1152 | City of Lincoln.
| Approximately 95 feet upstream of North 14th Street | +1184
Little Salt Creek Tributary 250 | Approximately 406 feet upstream of the Little Salt Creek Tributary 50 confluence | +1214 | Unincorporated Areas of Lancaster County.
| Approximately 247 feet downstream of North 14th Street | +1247
Little Salt Creek Tributary 260 | Approximately 363 feet upstream of the Little Salt Creek Tributary 60 confluence | +1200 | Unincorporated Areas of Lancaster County.
| Approximately 1,559 feet upstream of Davey Road | +1281
Little Salt Creek Tributary 270 | Approximately 279 feet upstream of the Little Salt Creek Tributary 70 confluence | +1230 | Unincorporated Areas of Lancaster County.
| Approximately 1,270 feet upstream of the Little Salt Creek Tributary 70 confluence | +1240
Little Salt Creek Tributary 30 | Approximately 0.87 mile downstream of North 14th Street | +1157 | City of Lincoln, Unincorporated Areas of Lancaster County.
| Approximately 0.95 mile upstream of North 1st Street | +1260
Little Salt Creek Tributary 315 | Approximately 247 feet downstream of North 7th Street | +1185 | City of Lincoln.
| Approximately 62 feet downstream of Alvo Road | +1205
Little Salt Creek Tributary 320 | Approximately 393 feet upstream of the Little Salt Creek Tributary 20 confluence | +1211 | Unincorporated Areas of Lancaster County.
| Approximately 188 feet downstream of Raymond Road | +1251
Little Salt Creek Tributary 35 | Approximately 60 feet upstream of Waverly Road | +1157 | City of Lincoln, Unincorporated Areas of Lancaster County.
| Approximately 0.80 mile upstream of the Little Salt Creek confluence | +1194
Little Salt Creek Tributary 360 | Approximately 261 feet upstream of the Little Salt Creek Tributary 60 confluence | +1256 | Unincorporated Areas of Lancaster County.
| Approximately 1,010 feet downstream of West Rock Creek Road | +1263
Little Salt Creek Tributary 40 | Approximately 1,536 feet upstream of the Little Salt Creek confluence | +1165 | Unincorporated Areas of Lancaster County.
| Approximately 93 feet downstream of Mill Road | +1198
Little Salt Creek Tributary 415 | Approximately 600 feet upstream of the Little Salt Creek Tributary 15 confluence | +1206 | City of Lincoln.
| Approximately 1,829 feet upstream of North 1st Street | +1228
Little Salt Creek Tributary 420 | Approximately 55 feet upstream of the Little Salt Creek Tributary 20 confluence | +1218 | Unincorporated Areas of Lancaster County.
| Approximately 178 feet downstream of Raymond Road | +1247
Little Salt Creek Tributary 45 | Approximately 77 feet downstream of Mill Road | +1169 | Unincorporated Areas of Lancaster County, Village of Davey.
| Approximately 1,734 feet upstream of Branched Oak Road | +1172
Little Salt Creek Tributary 50 | Approximately 0.77 mile downstream of Raymond Road | +1172 | Unincorporated Areas of Lancaster County.
| Approximately 0.52 mile upstream of Branched Oak Road | +1269
Little Salt Creek Tributary 520 | Approximately 194 feet downstream of Raymond Road | +1251 | Unincorporated Areas of Lancaster County.
| Approximately 94 feet downstream of Raymond Road | +1253
Little Salt Creek Tributary 55 | Approximately 264 feet upstream of North 1st Street | +1175 | Unincorporated Areas of Lancaster County.
| Approximately 0.45 mile upstream of North 1st Street | +1187
Little Salt Creek Tributary 60 | Approximately 0.98 mile downstream of West Branched Oak Road | +1180 | Unincorporated Areas of Lancaster County.
| Approximately 1,183 feet downstream of West Rock Creek Road | +1262
Little Salt Creek Tributary 65 | Approximately 0.82 mile downstream of West Raymond Road | +1180 | Unincorporated Areas of Lancaster County.
| Approximately 0.94 mile upstream of West Raymond Road | +1246
Little Salt Creek Tributary 70 | Approximately 1 mile downstream of Northwest 27th Street | +1192 | Unincorporated Areas of Lancaster County.
| Approximately 1,754 feet upstream of Northwest 27th Street | +1256
Little Salt Creek Tributary 75 | At the Little Salt Creek confluence | +1203 | Unincorporated Areas of Lancaster County.
| Approximately 0.95 mile upstream of the Little Salt Creek confluence | +1250
Little Salt Creek Tributary 80 | At the Little Salt Creek confluence | +1210 | Unincorporated Areas of Lancaster County.
| Approximately 1,283 feet downstream of West Rock Creek Road | +1273
Little Salt Creek Tributary 85 | Approximately 142 feet upstream of the Little Salt Creek confluence | +1216 | Unincorporated Areas of Lancaster County.
| Approximately 1,884 feet downstream of West Davey Road | +1246
* National Geodetic Vertical Datum.
+ North American Vertical Datum.
# Depth in feet above ground.
‸ Mean Sea Level, rounded to the nearest 0.1 meter.
ADDRESSES
City of Lincoln
Maps are available for inspection at the Building and Safety Department, 555 South 10th Street, Lincoln, NE 68508.
Unincorporated Areas of Lancaster County
Maps are available for inspection at the Building and Safety Department, 555 South 10th Street, Lincoln, NE 68508.
Village of Davey
Maps are available for inspection at Davey Hall, 3530 Elm Street, Davey, NE 68336.
Franklin County, North Carolina, and Incorporated Areas
Docket No.: FEMA-B-1110
Basin 10, Stream 14 | At the Franklin/Wake county boundary | +307 | Unincorporated Areas of Franklin County.
| Approximately 300 feet downstream of Bethlehem Church Road (State Route 1103) | +387
Bear Swamp Creek | At the confluence with the Tar River | +210 | Unincorporated Areas of Franklin County.
| Approximately 0.5 mile upstream of Dyking Road (State Route 1235) | +211
Big Branch Creek | At the confluence with Cedar Creek | +191 | Unincorporated Areas of Franklin County.
| Approximately 0.3 mile upstream of the confluence with Cedar Creek | +191
Billys Creek | At the confluence with the Tar River | +225 | Unincorporated Areas of Franklin County.
| Approximately 2.5 miles upstream of Montgomery Road | +272
Brandy Creek Tributary | Approximately 850 feet downstream of Fleming Road (State Route 1132) | +333 | Town of Youngsville, Unincorporated Areas of Franklin County.
| Approximately 1,000 feet upstream of Fleming Road (State Route 1132) | +352
Buffalo Creek South | At the confluence with the Tar River | +212 | Unincorporated Areas of Franklin County.
| Approximately 0.4 mile upstream of Perry's Chapel Church Road (State Route 1003) | +285
Cedar Creek | At the confluence with the Tar River | +191 | Unincorporated Areas of Franklin County.
| Approximately 1.2 miles upstream of Pocokomoke Road (State Route 1127) | +438
Cedar Creek Tributary | Approximately 400 feet upstream of the confluence with Cedar Creek | +374 | Unincorporated Areas of Franklin County.
| Approximately 0.3 mile upstream of the confluence with Cedar Creek | +386
Cedar Creek Tributary 3 | Approximately 0.4 mile downstream of Long Mill Road (State Route 1134) | +381 | Unincorporated Areas of Franklin County.
| Approximately 200 feet upstream of Long Mill Road (State Route 1134) | +402
Cedar Creek Tributary 3A | Approximately 700 feet upstream of the confluence with Cedar Creek Tributary 3 | +355 | Unincorporated Areas of Franklin County.
| Approximately 0.5 mile upstream of the confluence with Cedar Creek Tributary 3 | +397
Crooked Creek | At the confluence with the Tar River | +172 | Unincorporated Areas of Franklin County.
| At the downstream side of Cheves Road (State Route 1731) | +172
Cypress Creek | At the confluence with the Tar River | +171 | Unincorporated Areas of Franklin County.
| Approximately 1.2 miles upstream of the confluence with the Tar River | +171
Fox Creek | At the confluence with the Tar River | +200 | Town of Louisburg, Unincorporated Areas of Franklin County.
| Approximately 0.3 mile upstream of State Highway 56 | +202
Franklinton Branch | Approximately 0.3 mile upstream of the confluence with Cedar Creek | +265 | Town of Franklinton, Unincorporated Areas of Franklin County.
| Approximately 1.3 miles upstream of Lane Store Road (State Route 1118) | +310
Horse Creek | Approximately 230 feet upstream of Nottingham Court (State Route 1177) | +387 | Unincorporated Areas of Franklin County.
| Approximately 0.5 mile upstream of John Mitchell Road (State Route 1140) | +430
Horse Creek Tributary 1 | Approximately 250 feet upstream of Keighlely Forest Drive | +344 | Unincorporated Areas of Franklin County.
| Approximately 1.0 mile upstream of Holden Road (State Route 1147) | +401
Horse Creek Tributary 2 | Approximately 200 feet upstream of the confluence with Horse Creek | +382 | Unincorporated Areas of Franklin County.
| Approximately 0.9 mile upstream of John Mitchell Road | +434
Jumping Run | At the confluence with the Tar River | +192 | Unincorporated Areas of Franklin County.
| Approximately 750 feet downstream of East River Road (State Route 1600) | +194
Little River Tributary 1 | Approximately 1,350 feet upstream of the confluence with the Little River | +328 | Unincorporated Areas of Franklin County.
| Approximately 0.4 mile upstream of the confluence with the Little River | +335
Little River Tributary 2 | Approximately 800 feet upstream of the confluence with the Little River | +329 | Unincorporated Areas of Franklin County.
| Approximately 300 feet upstream of Williamston Ridge Drive | +361
Little River Tributary 3 | Approximately 450 feet downstream of Darius Pearce Road (State Route 1101) | +330 | Unincorporated Areas of Franklin County.
| Approximately 0.3 mile upstream of North Carolina Highway 98 | +360
Little River Tributary 3A | At the confluence with the Little River Tributary 3 | +338 | Unincorporated Areas of Franklin County.
| Approximately 0.4 mile upstream of the confluence with Little River Tributary 3 | +350
Little River Tributary 3B | At the confluence with Little River Tributary 3A | +338 | Unincorporated Areas of Franklin County.
| Approximately 250 feet upstream of North Carolina Highway 98 | +358
Little River Tributary 6 | Approximately 675 feet downstream of Allens Lane | +355 | Unincorporated Areas of Franklin County.
| Approximately 365 feet upstream of Allens Lane | +364
Little River Tributary 8 | Approximately 700 feet upstream of the confluence with the Little River | +372 | Unincorporated Areas of Franklin County.
| Approximately 600 feet upstream of Oak Grove Church Road | +386
Lynch Creek | At the confluence with the Tar River | +212 | Unincorporated Areas of Franklin County.
| Approximately 0.5 mile upstream of Dyking Road (State Route 1235) | +212
Middle Creek | At the confluence with the Tar River | +241 | Unincorporated Areas of Franklin County.
| Approximately 1.2 miles upstream of the confluence with the Tar River | +241
Richland Creek | Approximately 850 feet upstream of the confluence with Richland Creek Tributary 2 | +301 | Town of Youngsville, Unincorporated Areas of Franklin County.
| Approximately 0.3 mile upstream of Holden Road | +364
Smith Creek (Basin 6, Stream 1) | At the Franklin/Wade county boundary | +327 | Unincorporated Areas of Franklin County.
| Approximately 0.6 mile upstream of the Franklin/Wake county boundary | +353
Sycamore Creek | At the confluence with the Tar River | +198 | Unincorporated Areas of Franklin County.
| Approximately 100 feet downstream of North Carolina Highway 56 | +199
Tar River | At the Franklin/Nash county boundary | +171 | Town of Bunn, Town of Louisburg, Unincorporated Areas of Franklin County.
| At the confluence with Middle Creek | +241
Tar River Tributary 1 | At the confluence with the Tar River | +195 | Unincorporated Areas of Franklin County.
| Approximately 0.9 mile upstream of the confluence with the Tar River | +196
Taylors Creek | At the confluence with the Tar River | +237 | Town of Franklinton, Unincorporated Areas of Franklin County.
| Approximately 250 feet upstream of West Green Street | +311
Tooles Creek | At the confluence with Lynch Creek | +212 | Unincorporated Areas of Franklin County.
| Approximately 0.6 mile upstream of Dyking Road (State Route 1235) | +212
Wolfpen Branch | At the confluence with the Tar River | +195 | Unincorporated Areas of Franklin County.
| Approximately 0.9 mile upstream of the confluence with the Tar River | +196
* National Geodetic Vertical Datum.
+ North American Vertical Datum.
# Depth in feet above ground.
ADDRESSES
Town of Bunn
Maps are available for inspection at the Town Hall, 601 Main Street, Bunn, NC 27508.
Town of Franklinton
Maps are available for inspection at the Town Hall, 7 West Mason Street, Franklinton, NC 27525.
Town of Louisburg
Maps are available for inspection at the Town Hall, 110 West Nash Street, Louisburg, NC 27549.
Town of Youngsville
Maps are available for inspection at the Town Hall, 118 North Cross Street, Youngsville, NC 27596.
Unincorporated Areas of Franklin County
Maps are available for inspection at the Franklin County Planning and Inspections Office, 215 East Nash Street, Louisburg, NC 27549.
Greene County, North Carolina, and Incorporated Areas
Docket No.: FEMA-B-1212
Appletree Swamp | Approximately 200 feet downstream of Nahunta Road | +55 | Unincorporated Areas of Greene County.
| Approximately 0.4 mile upstream of Apple Tree Road | +75
Bear Creek | At the upstream side of Parkstown Road | +83 | Unincorporated Areas of Greene County.
| Approximately 0.9 mile upstream of Oakdale Road | +107
Button Branch | At Fort Run Road | +70 | Unincorporated Areas of Greene County.
| Approximately 1.3 miles upstream of Fort Run Road | +82
Contentnea Creek | Approximately 2.3 miles downstream of the Wheat Swamp confluence | +34 | Town of Hookerton, Town of Snow Hill, Unincorporated Areas of Greene County.
| Approximately 1,300 feet upstream of State Route 58 | +63
Contentnea Creek Tributary 8 | At the Contentnea Creek confluence | +41 | Town of Snow Hill, Unincorporated Areas of Greene County.
| Approximately 200 feet upstream of Kingold Boulevard | +64
Contentnea Creek Tributary 9 | At the Contentnea Creek confluence | +43 | Town of Snow Hill, Unincorporated Areas of Greene County.
| Approximately 1.5 miles upstream of Beaman Old Creek Road | +65
Cow Branch | At the Nahunta Swamp confluence | +60 | Unincorporated Areas of Greene County.
| Approximately 2.1 miles upstream of Cow Branch Road | +114
Fort Run | At the Contentnea Creek confluence | +47 | Unincorporated Areas of Greene County.
| Approximately 1,800 feet upstream of Gurganus Road | +83
Little Contentnea Creek | Approximately 1,500 feet downstream of State Route 903 | +31 | Unincorporated Areas of Greene County.
| At the Wilson County boundary | +83
Middle Swamp | At the Little Contentnea Creek confluence | +42 | Unincorporated Areas of Greene County.
| Approximately 300 feet upstream of U.S. Route 258 | +62
Nahunta Swamp | At the Contentnea Creek confluence | +51 | Unincorporated Areas of Greene County.
| At the Button Branch confluence | +66
Poorhouse Run | At the Contentnea Creek confluence | +41 | Town of Snow Hill, Unincorporated Areas of Greene County.
| Approximately 0.7 mile upstream of Kingold Boulevard | +71
Rainbow Creek | At the Contentnea Creek confluence | +35 | Town of Hookerton, Unincorporated Areas of Greene County.
| At the downstream side of Lloyd Harrison Road | +63
Sandy Run | At the Middle Swamp confluence | +45 | Unincorporated Areas of Greene County.
| Approximately 0.7 mile upstream of the Middle Swamp confluence | +45
Toisnot Swamp | At the Contentnea Creek confluence | +59 | Unincorporated Areas of Greene County.
| Approximately 200 feet upstream of the railroad | +63
Tyson March | At the Contentnea Creek confluence | +43 | Unincorporated Areas of Greene County.
| Approximately 1,300 feet downstream of Gray Turnage Road | +69
Wheat Swamp | At the Contentnea Creek confluence | +34 | Unincorporated Areas of Greene County.
| Approximately 1.1 miles upstream of Hugo Road | +35
* National Geodetic Vertical Datum.
+ North American Vertical Datum.
# Depth in feet above ground.
ADDRESSES
Town of Hookerton
Maps are available for inspection at the Town Hall, 227 East Main Street, Hookerton, NC 28538.
Town of Snow Hill
Maps are available for inspection at the Town Hall, 201 North Greene Street, Snow Hill, NC 28580.
Unincorporated Areas of Greene County
Maps are available for inspection at the Greene County Inspections Department, 104 Hines Street, Snow Hill, NC 28580.
Lenoir County, North Carolina, and Incorporated Areas
Docket No.: FEMA-B-1212
Adkin Branch | At the upstream side of West Gordon Street | +36 | City of Kinston, Unincorporated Areas of Lenoir County.
| At the upstream side of Crawford Street | +76
Briery Run | Approximately 1,100 feet upstream of the Stonyton Creek confluence | +35 | City of Kinston, Unincorporated Areas of Lenoir County.
| Approximately 1,500 feet upstream of Rouse Road | +66
Deep Run | At the Southwest Creek confluence | +74 | Unincorporated Areas of Lenoir County.
| Approximately 450 feet upstream of State Route 11 | +88
Eagle Swamp | Approximately 1,300 feet downstream of South Highland Avenue | +25 | Unincorporated Areas of Lenoir County.
| At the downstream side of Sharon Church Road | +52
Falling Creek | Approximately 0.4 mile upstream of Pruitt Road | +42 | Unincorporated Areas of Lenoir County.
| Approximately 700 feet downstream of the Jumping Run confluence | +67
Falling Creek Tributary | At the Falling Creek confluence | +54 | Unincorporated Areas of Lenoir County.
| Approximately 300 feet upstream of Springwood Bridge | +79
Groundnut Creek | At the Mosley Creek (into Falling Creek) confluence | +68 | Unincorporated Areas of Lenoir County.
| Approximately 150 feet upstream of Harrison Phelps Road | +91
Gum Swamp | At the Falling Creek confluence | +57 | Unincorporated Areas of Lenoir County.
| Approximately 250 feet upstream of Wheat Swamp Road | +91
Jericho Run | Approximately 200 feet downstream of State Route 55 | +30 | City of Kinston, Unincorporated Areas of Lenoir County.
| Approximately 250 feet upstream of Cunningham Road | +53
Jericho Run Tributary | At the Jericho Run confluence | +44 | City of Kinston, Unincorporated Areas of Lenoir County.
| Approximately 250 feet upstream of the railroad | +66
Jumping Run | Approximately 0.4 mile upstream of the Falling Creek confluence | +71 | Unincorporated Areas of Lenoir County.
| Approximately 200 feet upstream of Jumping Run Church Road | +107
Mosley Creek (into Falling Creek) | At the Falling Creek confluence | +62 | Town of La Grange, Unincorporated Areas of Lenoir County.
| Approximately 360 feet upstream of State Route 903 | +90
Mosley Creek (into Neuse River) | Approximately 100 feet upstream of William Pearce Road | +25 | Unincorporated Areas of Lenoir County.
| At the Tracey Swamp confluence | +39
Neuse River Tributary | Approximately 700 feet upstream of U.S. Route 70 | +42 | City of Kinston, Unincorporated Areas of Lenoir County.
| At the upstream side of the railroad | +52
Rivermont Tributary | At the upstream side of West New Bern Road | +38 | City of Kinston, Unincorporated Areas of Lenoir County.
| Approximately 1,300 feet upstream of Old Asphalt Road | +38
Southwest Creek | Approximately 400 feet upstream of U.S. Route 70 | +36 | City of Kinston, Unincorporated Areas of Lenoir County.
| Approximately 1.0 mile upstream of Liddell Road | +128
Stonyton Creek | Approximately 1,900 feet upstream of State Route 11 | +29 | City of Kinston, Unincorporated Areas of Lenoir County.
| At the downstream side of John Mewborne Road | +63
Strawberry Branch | At the Southwest Creek confluence | +37 | City of Kinston, Unincorporated Areas of Lenoir County.
| Approximately 170 feet downstream of Whaley Road | +49
Taylors Branch | At the Briery Run confluence | +61 | City of Kinston, Unincorporated Areas of Lenoir County.
| Approximately 1,500 feet upstream of Rouse Road | +74
Tracey Swamp | At the Mosley Creek (into Neuse River) confluence | +39 | Unincorporated Areas of Lenoir County.
| Approximately 1.0 mile downstream of the Jones County boundary | +41
Tuckahoe Swamp | Approximately 1,500 feet downstream of West Pleasant Hill Road | +87 | Unincorporated Areas of Lenoir County.
| Approximately 525 feet upstream of Ash Davis Road | +97
* National Geodetic Vertical Datum.
+ North American Vertical Datum.
# Depth in feet above ground.
ADDRESSES
City of Kinston
Maps are available for inspection at City Hall, 207 East King Street, Kinston, NC 28501.
Town of La Grange
Maps are available for inspection at the Town Hall, 203 South Center Street, La Grange, NC 28551.
Unincorporated Areas of Lenoir County
Maps are available for inspection at the Lenoir County Planning Department, 101 North Queen Street, Kinston, NC 28502.
Nash County, North Carolina, and Incorporated Areas
Docket No.: FEMA-B-1153
Cypress Creek | At the confluence with the Tar River | +171 | Unincorporated Areas of Nash County.
| Approximately 300 feet upstream of Lake Royale Road (Secondary Road 1316) | +171
Little Creek | Approximately 500 feet downstream of the railroad | +199 | Town of Middlesex, Unincorporated Areas of Nash County.
| Approximately 0.5 mile upstream of Debnam Road | +278
Tar River | Approximately 0.64 mile downstream of U.S. Highway 64 | +162 | Town of Spring Hope, Unincorporated Areas of Nash County.
| At the confluence with Cypress Creek | +171
* National Geodetic Vertical Datum.
+ North American Vertical Datum.
# Depth in feet above ground.
ADDRESSES
Town of Middlesex
Maps are available for inspection at the Town Hall, 10232 South Nash Street, Middlesex, NC 27557.
Town of Spring Hope
Maps are available for inspection at the Town Hall, 118 West Railroad Street, Spring Hope, NC 27882.
Unincorporated Areas of Nash County
Maps are available for inspection at the Nash County Planning Department, 120 West Washington Street, Suite 2110, Nashville, NC 27856.
Pitt County, North Carolina, and Incorporated Areas
Docket No.: FEMA-B-1212
Black Swamp | At the Little Contentnea Creek confluence | +61 | Town of Farmville, Unincorporated Areas of Pitt County.
| Approximately 0.6 mile upstream of the Little Contentnea Creek confluence | +62
Contentnea Creek South Tributary | Approximately 1.0 mile upstream of the Contentnea Creek confluence | +25 | Town of Grifton, Unincorporated Areas of Pitt County.
| Approximately 0.7 mile upstream of McCrae Street | +33
Eagle Swamp | Approximately 0.3 mile downstream of South Highland Avenue | +25 | Town of Grifton.
| Approximately 500 feet upstream of Skeeter Pond Road | +31
Jacob Branch | At the Black Swamp confluence | +61 | Town of Farmville, Unincorporated Areas of Pitt County.
| Approximately 0.3 mile upstream of the Black Swamp confluence | +62
Little Contentnea Creek | Approximately 0.3 mile downstream of State Route 903 | +31 | Town of Farmville, Unincorporated Areas of Pitt County.
| Approximately 450 feet downstream of Spring Branch Church Road (State Route 1308) | +83
Little Contentnea Creek Tributary 1 | At the Little Contentnea Creek confluence | +32 | Unincorporated Areas of Pitt County.
| Approximately 1.2 miles upstream of the Little Contentnea Creek confluence | +32
Middle Swamp | At the Little Contentnea Creek confluence | +42 | Town of Farmville, Unincorporated Areas of Pitt County.
| Approximately 700 feet upstream of U.S. Route 258 | +62
Pinelog Branch | Approximately 900 feet downstream of Askew Road | +53 | Unincorporated Areas of Pitt County.
| Approximately 1,500 feet upstream of Fred Drive | +78
Pinelog Branch North Tributary | At the Pinelog Branch confluence | +65 | Unincorporated Areas of Pitt County.
| At the downstream side of Mozingo Road | +71
Pinelog Branch South Tributary | Approximately 100 feet upstream of the Pinelog Branch confluence | +69 | Unincorporated Areas of Pitt County.
| Approximately 0.5 mile upstream of Stantonsburg Road | +81
Ward Run | At the Little Contentnea Creek confluence | +79 | Unincorporated Areas of Pitt County.
| Approximately 0.3 mile upstream of the Little Contentnea Creek confluence | +80
* National Geodetic Vertical Datum.
+ North American Vertical Datum.
# Depth in feet above ground.
ADDRESSES
Town of Farmville
Maps are available for inspection at the Town Hall, 3672 North Main Street, Farmville, NC 27828.
Town of Grifton
Maps are available for inspection at the Pitt County Planning Department, 1717 West 5th Street, Greenville, NC 27834.
Unincorporated Areas of Pitt County
Maps are available for inspection at the Pitt County Planning Department, 1717 West 5th Street, Greenville, NC 27834.
Wake County, North Carolina, and Incorporated Areas
Docket No.: FEMA-B-1112
Basin 10, Stream 13 | At the confluence with Basin 10, Stream 14 | +276 | Unincorporated Areas of Wake County.
| Approximately 1,400 feet upstream of the confluence with Basin 10, Stream 14 | +276
Basin 10, Stream 14 | Approximately 0.5 mile upstream of the confluence with the Little River | +268 | Unincorporated Areas of Wake County.
| At the Wake County boundary | +307
Horse Creek Tributary 1 | At the downstream side of Keighley Forest Drive | +341 | Unincorporated Areas of Wake County.
| Approximately 850 feet upstream of Keighley Forest Drive | +345
Richland Creek | Approximately 850 feet upstream of the confluence with Richland Creek Tributary 2 | +301 | Town of Wake Forest.
| Approximately 500 feet downstream of the confluence with Hattles Branch | +315
Richland Creek Tributary 2 | Approximately 750 feet upstream of the confluence with Richland Creek | +301 | Town of Wake Forest.
| Approximately 0.4 mile upstream of the confluence with Richland Creek | +317
* National Geodetic Vertical Datum.
+ North American Vertical Datum.
# Depth in feet above ground.
ADDRESSES
Town of Wake Forest
Maps are available for inspection at the Planning Department, 301 South Brooks Street, 3rd Floor, Wake Forest, NC 27587.
Unincorporated Areas of Wake County
Maps are available for inspection at the Wake County Environmental Services Department, 337 South Salisbury Street, Raleigh, NC 27602.
Wilson County, North Carolina, and Incorporated Areas
Docket No.: FEMA-B-1200 and B-1212
Black Creek | At the Contentnea Creek confluence | +66 | Town of Black Creek, Unincorporated Areas of Wilson County.
| Approximately 50 feet upstream of U.S. Route 117 | +91
Black Creek Tributary | Approximately 1,500 feet upstream of the Black Creek confluence | +92 | Town of Lucama, Unincorporated Areas of Wilson County.
| Approximately 100 feet upstream of the Tributary to Black Creek Tributary confluence | +102
Bloomery Swamp | Approximately 500 feet upstream of the Bloomery Swamp Tributary 2 confluence | +102 | City of Wilson, Unincorporated Areas of Wilson County.
| At the Millstone Creek and Juniper Creek confluence | +155
Bloomery Swamp Tributary 3 | Approximately 50 feet upstream of Alternate U.S. Route 264 | +130 | City of Wilson, Unincorporated Areas of Wilson County.
| Approximately 1,560 feet upstream of Packhouse Road (State Route 1382) | +150
Contentnea Creek | Approximately 1,800 feet downstream of North Carolina Highway 58 | +59 | Town of Stantonsburg, Unincorporated Areas of Wilson County.
| Approximately 0.8 mile downstream of the Little Swamp confluence | +109
Contentnea Creek Tributary | At the Contentnea Creek confluence | +77 | Town of Black Creek, Unincorporated Areas of Wilson County.
| Approximately 1,920 feet upstream of Yank Road (State Route 1615) | +106
Goss Swamp | At the Toisnot Swamp confluence | +63 | Town of Stantonsburg, Unincorporated Areas of Wilson County.
| Approximately 0.8 mile upstream of the Toisnot Swamp confluence | +64
Hog Island Tributary | At the Toisnot Swamp confluence | +98 | City of Wilson, Unincorporated Areas of Wilson County.
| Approximately 50 feet downstream of Firestone Parkway (State Route 1328) | +109
Hominy Swamp Tributary 1 | Approximately 0.5 mile upstream of the Hominy Swamp confluence | +85 | City of Wilson, Unincorporated Areas of Wilson County.
| Approximately 75 feet upstream of Tuskeegee Street | +131
Little Contentnea Creek | Approximately 450 feet downstream of Eagles Cross Road | +83 | Unincorporated Areas of Wilson County.
| Approximately 1.1 miles upstream of Eagles Cross Road | +90
Little Swamp | Approximately 1.6 miles upstream of the Contentnea Creek confluence | +116 | Unincorporated Areas of Wilson County.
| Approximately 140 feet upstream of Radio Tower Road (State Route 1152) | +163
Marsh Swamp | Approximately 0.6 mile upstream of the Contentnea Creek confluence | +125 | Unincorporated Areas of Wilson County.
| Approximately 1,600 feet upstream of the dam | +230
Marsh Swamp Tributary | At the Marsh Swamp confluence | +141 | Unincorporated Areas of Wilson County.
| Approximately 1,830 feet upstream of High Road (State Route 1148) | +196
Mill Branch (into Contentnea Creek) | Approximately 1,900 feet upstream of the Contentnea Creek confluence | +108 | Unincorporated Areas of Wilson County.
| Approximately 410 feet upstream of I-95 | +140
Millstone Creek | At the Bloomery Swamp and Juniper Swamp confluence | +155 | Unincorporated Areas of Wilson County.
| Approximately 530 feet upstream of Countryside Road (State Route 1302) | +160
Shepard Branch | Approximately 0.7 mile upstream of the Contentnea Creek confluence | +106 | City of Wilson, Unincorporated Areas of Wilson County.
| Approximately 0.8 mile upstream of Old Raleigh Road (State Route 1136) | +134
Toisnot Swamp | Approximately 1,400 feet upstream of the Contentnea Creek confluence | +59 | City of Wilson, Town of Stantonsburg, Unincorporated Areas of Wilson County.
| Approximately 0.8 mile upstream of Lake Wilson Road | +121
Toisnot Swamp Tributary | At the Toisnot Swamp confluence | +107 | City of Wilson, Unincorporated Areas of Wilson County.
| Approximately 1.2 miles upstream of the Tributary 2 to Toisnot Swamp Tributary confluence | +145
Tributary 1 to Toisnot Swamp Tributary | At the Toisnot Swamp Tributary confluence | +131 | City of Wilson, Unincorporated Areas of Wilson County.
| Approximately 1,150 feet upstream of Grandy Drive | +152
Tributary 2 to Toisnot Swamp Tributary | At the Toisnot Swamp Tributary confluence | +132 | City of Wilson, Unincorporated Areas of Wilson County.
| Approximately 0.6 mile upstream of the Toisnot Swamp Tributary confluence | +144
Tributary to Black Creek Tributary | At the Black Creek Tributary confluence | +102 | Town of Lucama, Unincorporated Areas of Wilson County.
| Approximately 330 feet upstream of Little Rock Church Road (State Route 1649) | +118
Whiteoak Swamp | At the Buck Branch confluence | +80 | Unincorporated Areas of Wilson County.
| Approximately 800 feet upstream of the Mill Branch (into Whiteoak Swamp) confluence | +84
Whiteoak Swamp Tributary | At the Whiteoak Swamp confluence | +82 | Unincorporated Areas of Wilson County.
| Approximately 160 feet upstream of Etheridge Road (State Route 1522) | +88
Wiggins Mill Tributary | Approximately 0.4 mile upstream of Forest Hills Road | +99 | City of Wilson, Unincorporated Areas of Wilson County.
| Approximately 1.7 miles upstream of Forest Hills Road | +120
* National Geodetic Vertical Datum.
+ North American Vertical Datum.
# Depth in feet above ground.
ADDRESSES
City of Wilson
Maps are available for inspection at City Hall, 112 Goldsboro Street, Wilson, NC 27893.
Town of Black Creek
Maps are available for inspection at the Town Hall, 112 West Center Street, Black Creek, NC 27813.
Town of Lucama
Maps are available for inspection at the Town Hall, 111 South Main Street, Lucama, NC 27851.
Town of Stantonsburg
Maps are available for inspection at the Town Hall, 108 Commercial Avenue, Stantonsburg, NC 27883.
Unincorporated Areas of Wilson County
Maps are available for inspection at the Wilson County Manager's Office, 2201 Miller Road South, Wilson, NC 27893.

(Catalog of Federal Domestic Assistance No. 97.022, “Flood Insurance.”)

James A. Walke,
Acting Deputy Associate Administrator for Mitigation, Department of Homeland Security, Federal Emergency Management Agency.

[FR Doc. 2013-03077 Filed 2-11-13; 8:45 am]

BILLING CODE 9110-12-P